DEPARTMENT OF HEALTH AND HUMAN SERVICES

Substance Abuse and Mental Health Services Administration

Fiscal Year (FY) 2001 Funding—Restricted Eligibility

AGENCY: Substance Abuse and Mental Health Services Administration, HHS.

ACTION: Notice of restricted eligibility.

NOTICE: The Substance Abuse and Mental Health Services Administration (SAMHSA) Center for Substance Abuse Treatment (CSAT), Center for Substance Abuse Prevention (CSAP), and Center for Mental Health Services (CMHS) were instructed in Public Law 106-554 to make one year awards of financial assistance in fiscal year 2001 in specified amounts totaling $24,605,000 for the projects specified below. Department of Health and Human Services policy requires that all planned noncompetitive awards, and the reasons therefore, be announced in the Federal Register. These financial assistance awards will implement explicit statutory instruction. This Notice does not invite applications from the entities identified. Necessary instructions and OMB required application form PHS 5161-1 (revised 7/00) will be provided directly to each of the named entities. The entities eligible for these awards, by Center, are:

Center for Mental Health Services

—The Hope Center in Lexington, Kentucky (jointly with CSAT)

—Steinway Child and Family Services, Inc. in Queens, New York for HIV/AIDS prevention

—The American Trauma Society to support its Second Trauma Program which helps train trauma system health care professionals to assist individuals facing the shock of an unexpected death or critical injury to their family members

—The Concord-Assabet Family Services Center for a model transitional living program for troubled youth

—Preschool Anger Management, Family Communications

—The Life Quest Community Mental Health Center in Wasilla, Alaska

—Pacific Clinics in Arcadia, California, to support a school-based mental health demonstration program for Latina adolescents in partnership with community groups, mental health agencies, local governments and school systems in Southeast Los Angeles county

—The Bert Nash Community Mental Health Center in Lawrence, Kansas, to provide mental health services in schools and other settings to prevent juvenile crime and substance abuse among high-risk youth

—The Alaska Federation of Natives for innovative homeless mental health services in Alaska

—Iowa State University Extension to develop a program which would provide outreach, training, and counseling services in rural areas

—The United Power for Action and Justice demonstration project in Chicago and area to end the cycle of homelessness

—Mentally ill offender crime reduction demonstration in Ventura County, California to create the building blocks for a continuum of care for mentally ill offenders who enter the jail system in the county

—University of Connecticut for urban health initiatives to improve mental health services

—University of Florida National Rural Behavioral Health Center to train extension agents in crisis intervention and stress management to better equip them to deal with emotional and stress related problems

—The Ch'eghutsen program in interior Alaska

—The Alaska Federation of Natives to use integrated community care to treat native Alaska children with mental health disorders.

—Community Assessment and Intervention Centers providing integrated mental health and substance abuse services in four Florida communities

Center for Substance Abuse Prevention

—The City of Alexandria, Virginia, substance abuse prevention demonstration program for high-risk Latino youth;

—The Rock Island County Council on Addiction in East Moline, Illinois, for a youth substance abuse prevention program

—The Drug-free Families Initiative at the University of Missouri, St. Louis.

—Community Prevention Partnership of Berks County Inc.

—Family Planning Council of Pennsylvania

Center for Substance Treatment

—The Vermont Department of Health Office of Alcohol and Drug Abuse Prevention to examine adolescent residential treatment programs

—Center Point, Inc., in Marin County, California, to continue support for substance abuse and related services for minority, homeless and other at risk populations

—Green Door in Washington, D.C. to treat minority consumers with substance abuse problems and mental health issues

—The Allegheny County Drug and Alcohol Rehabilitation Program

—The Cook Inlet Council on Alcohol and Drug Abuse Treatment

—The House of Mercy in Des Moines, Iowa to support treatment programs for pregnant and post-partum women

—The State of Wyoming to carry out an innovative substance abuse prevention and treatment program

—Humboldt County, California, to support residential substance abuse and related services for women who have children

—The Hope Center in Lexington, Kentucky (jointly with CMHS)

—The Grove Counseling Center in Winter Springs, Florida for a demonstration project of effective youth substance abuse treatment methods

—The Fairbanks LifeGivers Pregnant and Parenting Teens program

—The Alaska Federation of Natives to identify best substance abuse treatment practices

—The City of San Francisco's model Treatment on Demand program for the homeless

—The Baltimore City Health Department to use innovative methods to enhance drug treatment services

Dated: April 10, 2001.
Richard Kopanda,
Executive Officer, SAMHSA.

[FR Doc. 01-9337 Filed 4-13-01; 8:45 am]

BILLING CODE 4162-20-P